FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 24, 2007.

A. Federal Reserve Bank of Chicago (Burl Thornton, Assistant Vice President) 230 South LaSalle Street, Chicago, Illinois 60690-1414:

1. James P. Stein; Mary Ann Bramhall-Lambert; Thomas L. Lambert; Velma M. Lambert; as a family acting in concert; and William M. Parks, individually and in concert with Ann F. Parks, all of Muscatine, Iowa, to acquire voting shares of Central Bancshares, Inc., and thereby indirectly Central State Bank, both of Muscatine, Iowa; Farmers and Mechanics Bank, Galesburg, Illinois; Freedom Security Bank, Coralville, Iowa; and West Chester Savings Bank, Washington, Iowa.

B. Federal Reserve Bank of Kansas City (Todd Offenbacker, Assistant Vice President) 925 Grand Avenue, Kansas City, Missouri 64198-0001:

1. The Regnier Trust (Ann Regnier, trustee), as general partner of the Robert D. and Ann Regnier Family Limited Partnership, Leawood, Kansas; Victor A. Regnier, Los Angeles, California; Catherine M. Regnier, Mission, Kansas; Ranch Mart Hardware (Robert D. Regnier, president); Regnier Investments, both of Shawnee Mission, Kansas; and Regnier Management LLC (Robert D. Regnier, managing member), as general partner of the Regnier Family Limited Partnership; Regnier Family Limited Partnership II; and the Regnier Family Limited Partnership III, all of Shawnee Mission, Kansas, as members of the Regnier Family Group; to retain voting shares of Blue Valley Ban Corp., and thereby indirectly retain voting shares of Bank of Blue Valley, both in Overland Park, Kansas.

Board of Governors of the Federal Reserve System, October 4, 2007.
Robert deV. Frierson,
Deputy Secretary of the Board.

[FR Doc. E7-19919 Filed 10-9-07; 8:45 am]

BILLING CODE 6210-01-S